DEPARTMENT OF DEFENSE

Office of the Secretary

Defense Science Board; Notice of Federal Advisory Committee Meeting; Cancellation

AGENCY: Under Secretary of Defense for Research and Engineering, Department of Defense (DoD).

ACTION: Notice of Federal Advisory Committee meeting; cancellation.

SUMMARY: On January 18, 2024, the DoD published a notice announcing a Federal Advisory Committee meeting of the Defense Science Board (DSB) that was to take place on January 18, 2024. The meeting has been cancelled.

DATES: Cancelled; open to the public Thursday, January 18, 2024, from 3 p.m. to 3:45 p.m.

FOR FURTHER INFORMATION CONTACT: Ms. Elizabeth J. Kowalski, Designated Federal Officer (DFO): (703) 571-0081 (Voice), (703) 697-1860 (Facsimile), elizabeth.j.kowalski.civ@mail.mil, (Email). Mailing address is Defense Science Board, 3140 Defense Pentagon, Washington, DC 20301-3140. Website: http://www.acq.osd.mil/dsb/.

SUPPLEMENTARY INFORMATION: Due to circumstances beyond the control of the Designated Federal Officer and the Department of Defense, the Defense Science Board was unable to provide public notification required by 41 CFR 102-3.150(a) concerning the cancellation of its January 18, 2024 meeting. Accordingly, the Advisory Committee Management Officer for the Department of Defense, pursuant to 41 CFR 102-3.150(b), waives the 15-calendar day notification requirement.

On January 18, 2024 (89 FR 3386), the DoD published a notice announcing a Federal Advisory Committee meeting of the Defense Science Board (DSB) that was to take place on January 18, 2024. The meeting has been cancelled. The meeting will be re-scheduled for a later date and an updated notice published in the Federal Register.

Dated: January 19, 2024.
Aaron T. Siegel,
Alternate OSD Federal Register Liaison Officer, Department of Defense.

[FR Doc. 2024-01402 Filed 1-24-24; 8:45 am]

BILLING CODE 6001-FR-P